DEPARTMENT OF ENERGY

Federal Energy Regulatory Commission

Combined Notice of Filings #1

June 7, 2010.

Take notice that the Commission received the following electric rate filings:

Docket Numbers: ER99-1435-023; ER10-390-002; ER00-1814-011.

Applicants: Avista Corporation.

Description: Avista Corp et al. submits amendments to the limitations and exemptions sections of Avista's and Turbines respective market based rate tariffs.

Filed Date: 06/04/2010.

Accession Number: 20100604-0208.

Comment Date: 5 p.m. Eastern Time on Friday, June 25, 2010.

Docket Numbers: ER10-793-001.

Applicants: Wolverine Creek Goshen Interconnection.

Description: Wolverine Creek Goshen Interconnection, LLC et al. submits Common Facilities Agreement currently on file with Commission as Rate Schedules FERC No. 1 for WCGI and Wolverine.

Filed Date: 06/04/2010.

Accession Number: 20100604-0023.

Comment Date: 5 p.m. Eastern Time on Friday, June 25, 2010.

Docket Numbers: ER10-1261-001.

Applicants: E.ON U.S. LLC.

Description: Louisville Gas and Electric Company et al. submits an executed interconnection agreement with the City of Owensboro, Kentucky.

Filed Date: 06/04/2010.

Accession Number: 20100607-0201.

Comment Date: 5 p.m. Eastern Time on Friday, June 25, 2010.

Docket Numbers: ER10-1369-000.

Applicants: PJM Interconnection, LLC.

Description: PJM Interconnection, LLC submits at the request of its members, revisions to the Amended and Restated Operating Agreement.

Filed Date: 05/28/2010.

Accession Number: 20100601-0249.

Comment Date: 5 p.m. Eastern Time on Friday, June 18, 2010.

Docket Numbers: ER10-1397-000.

Applicants: PJM Interconnection, LLC.

Description: PJM Interconnection, LLC submits an executed interconnection service agreement.

Filed Date: 06/04/2010.

Accession Number: 20100604-0207.

Comment Date: 5 p.m. Eastern Time on Friday, June 25, 2010.

Docket Numbers: ER10-1398-000.

Applicants: PacifiCorp.

Description: PacifiCorp submits Notice of Termination of PacifiCorp Rate Schedule FERC 324, a Transmission Service Agreement between United States of America Department of Energy, etc.

Filed Date: 06/04/2010.

Accession Number: 20100604-0211.

Comment Date: 5 p.m. Eastern Time on Friday, June 25, 2010.

Docket Numbers: ER10-1399-000.

Applicants: PacifiCorp.

Description: PacifiCorp submits Notice of Termination for Service Agreement No 648 et al.

Filed Date: 06/04/2010.

Accession Number: 20100604-0212.

Comment Date: 5 p.m. Eastern Time on Friday, June 25, 2010.

Docket Numbers: ER10-1400-000.

Applicants: Midwest Independent Transmission System Operator, Inc.

Description: Midwest Independent Transmission System Operator, Inc. submits revisions to Section 2 of the Generator Interconnection Procedures in the Attachment X of their Open Access Transmission, etc.

Filed Date: 06/04/2010.

Accession Number: 20100607-0202.

Comment Date: 5 p.m. Eastern Time on Friday, June 25, 2010.

Docket Numbers: ER10-1401-000.

Applicants: California Independent System Operator Corporation.

Description: California Independent System Operator Corporation submits proposed amendments to its approved tariff to implement a revised transmission planning process.

Filed Date: 06/04/2010.

Accession Number: 20100607-0203.

Comment Date: 5 p.m. Eastern Time on Friday, June 25, 2010.

Docket Numbers: ER10-1402-000.

Applicants: PJM Interconnection, LLC.

Description: PJM Interconnection, LLC submits an executed Wholesale Market Participation Agreement with Charleston Clean Energy, LLC et al.

Filed Date: 06/07/2010.

Accession Number: 20100607-0206.

Comment Date: 5 p.m. Eastern Time on Monday, June 28, 2010.

Docket Numbers: ER10-1403-000.

Applicants: Stephentown Regulation Services LLC.

Description: Application of Stephentown Regulation Services LLC for acceptance of a market-based rate tariff and granting of waivers and blanket authorization.

Filed Date: 06/07/2010.

Accession Number: 20100607-0207.

Comment Date: 5 p.m. Eastern Time on Monday, June 28, 2010.

Docket Numbers: ER10-1404-000.

Applicants: Delmarva Power & Light Company.

Description: Delmarva Power & Light Company submits an executed Interconnection and Mutual Operating Agreement with Town of Smyma, Delaware.

Filed Date: 06/07/2010.

Accession Number: 20100607-0208.

Comment Date: 5 p.m. Eastern Time on Monday, June 28, 2010.

Docket Numbers: ER10-1405-000.

Applicants: Tampa Electric Company.

Description: Tampa Electric Company submits the Interconnection and Operating Agreement with Florida Power Corporation for the Dade City Substation Interconnection.

Filed Date: 06/07/2010.

Accession Number: 20100607-0209.

Comment Date: 5 p.m. Eastern Time on Monday, June 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-14857 Filed 6-18-10; 8:45 am]

BILLING CODE 6717-01-P